DEPARTMENT OF COMMERCE

International Trade Administration

[A-533-840]

Certain Frozen Warmwater Shrimp From India; Partial Rescission of Antidumping Duty Administrative Review

AGENCY: Import Administration, International Trade Administration, Department of Commerce.

DATES: Effective Date: July 21, 2006.

FOR FURTHER INFORMATION CONTACT: Elizabeth Eastwood or Nichole Zink, AD/CVD Operations, Office 2, Import Administration, International Trade Administration, U.S. Department of Commerce, 14th Street and Constitution Avenue, NW., Washington, DC 20230; telephone: (202) 482-3874 or (202) 482-0049, respectively.

SUPPLEMENTARY INFORMATION:

Background

On February 1, 2006, the Department of Commerce (the Department) published in the Federal Register a notice of opportunity to request an administrative review of the antidumping duty order on certain frozen warmwater shrimp from India for the period August 4, 2004, through January 31, 2006. See Antidumping or Countervailing Duty Order, Finding, or Suspended Investigation; Opportunity to Request Administrative Review, 71 FR 5239 (Feb. 1, 2006). Between February 23, 2006, and February 28, 2006, in accordance with 19 CFR 351.213(b)(2), certain respondents requested a review of the antidumping duty order on certain frozen warmwater shrimp from India. In addition, on February 28, 2006, the petitioner¹ also requested an administrative review for numerous Indian exporters of subject merchandise in accordance with 19 CFR 351.213(b)(1).

¹ The petitioner in this proceeding is the Ad Hoc Shrimp Trade Action Committee.

In April 2006, the Department initiated an administrative review for 347 companies and we requested that each provide data on the quantity and value of its exports of subject merchandise to the United States during the period of review (POR). These companies are listed in the Department's notice of initiation. See Notice of Initiation of Administrative Reviews of the Antidumping Duty Orders on Certain Frozen Warmwater Shrimp from Brazil, Ecuador, India and Thailand, 71 FR 17819 (Apr. 7, 2006) (Notice of Initiation).

Between March 29, 2006, and July 6, 2006, the requests for administrative review were withdrawn for 268 companies, in accordance with 19 CFR 351.213(d)(1). These companies are: (1) Abad Fisheries (Abad); (2) Accelerated Freeze Drying Co., Ltd. (Accelerated I); (3) Accelerated Freeze-drying Co. (Accelerated II); (4) Adani Exportse (Adani); (5) Aditya Udyog (Aditya); (6) Agri Marine Exports Ltd. (Agri Marine); (7) AL Mustafa Exp & Imp (AL Mustafa); (8) Alapatt Marine Exports (Alapatt); (9) Alfuzz Frozen Foods Pvt. Ltd. (Alfuzz); (10) Allana Frozen Foods Pvt. Ltd. (Allana); (11) All Seas Marine P. Ltd. (All Seas); (12) Alsa Marine & Harvests Ltd. (Alsa); (13) Ameena Enterprises (Ameena); (14) AMI Enterprises (AMI); (15) Ananda Aqua Exports Private Limited (Ananda I); (16) Ananda Foods (Ananda II); (17) Andaman Seafoods Pvt. Ltd. (Andaman); (18) Anjaneya Seafoods (Anjaneya); (19) Anjani Marine Traders (Anjani); (20) Apex Exports (Apex); (21) Aqua Star Marine Foods (Aqua); (22) Arsha Seafood Exports Pvt. Ltd (Arsha); (23) A.S Marine Industries Pvt Ltd. (A.S Marine); (24) ASF Seafoods (ASF); (25) Ashwini Frozen Foods (Ashwini); (26) Asvini Exports (Asvini I); (27) Asvini Fisheries (Asvini II); (28) Asvini Fisheries Limited (Asvini III); (29) Asvrm Fisheries Ltd. (Asvrm); (30) Aswin Associates (Aswin); (31) Atta Export (Atta); (32) Avanti Feeds Limited (Avanti); (33) Baby Marine Sarass; (34) Bell Foods (Marine Division) (Bell); (35) Bengal Marine Pvt. Ltd. (Bengal); (36) Bharat Seafoods (Bharat); (37) Bhavani Seafoods (Bhavani); (38) Bhisti Exports (Bhisti); (39) Bijaya Marine Products (Bijaya); (40) Bilal Fish Suppliers (Bilal); (41) Bluefin Enterprises (Bluefin); (42) Bluepark Seafoods P. Ltd. (Bluepark); (43) Blue Water Foods & Exports P. Ltd. (Blue Water); (44) BMR Exports (BMR); (45) Brilliant Exports (Brilliant); (46) Britto Exports (Britto); (47) Capital Freezing Complex (Capital); (48) Capithan Exporting Co. (Capithan); (49) Castlecrock Seafoods Ltd. (Castlecrock); (50) Central Calcutta Cold Storage (Central Calcutta); (51) Cham Exports Ltd. (Cham I); (52) Cham Ocean Treasures Co., Ltd. (Cham II); (53) Cham Trading Organization (Cham III); (54) Chand International (Chand); (55) Chemmeens (Regd) (Chemmeens); (56) Choice Trading Corporation Pvt. Ltd. (Choice I); (57) Choice Canning Company (Choice II); (58) Corlim Marine Exports Pvt. Ltd (Corlim); (59) C P Aquaculture (India) Ltd. (C P Aquaculture); (60) Danda Fisheries (Danda); (61) Dariapur Aquatic Pvt. Ltd (Dariapur); (62) Deepmala Marine Exports (Deepmala); (63) Devi Fisheries Limited (Devi I); (64) Devi Seafoods Limited (Devi II); (65) Devi Seafoods Pvt. Ltd. (Devi III); (66) Dhanamjaya Irnpex P. Ltd (Dhanamjaya); (67) Diamond Seafoods Exports (Diamond); (68) Digha Seafood Exports (Digha); (69) Dorothy Foods (Dorothy); (70) Edhayam Frozen Foods Pvt. Ltd. (Edhayam); (71) EI-Te Marine Products (EI-Te); (72) Esmorio Export Enterprises (Esmorio); (73) Excel Ice Services/Chirag Int'l (Excel); (74) Exporter Coreline Exports; (75) Fernando Intrcontinental (Fernando); (76) Firoz & Company (Firoz); (77) Five Star Marine Exports (Five Star I); (78) Five Star Marine Exports Private Limited (Five Star II); (79) Forstar Frozen Foods Pvt. Ltd. (Forstar); (80) Freeze Engineering Industries (Pvt. Ltd.) (Freeze); (81) Frigerio Conserva Allana Limited (Frigerio); (82) Frontline Exports Pvt. Ltd. (Frontline); (83) G A Randerian Ltd (G A); (84) Gadre Marine Exports (Gadre); (85) Galaxy Maritech Exports P. Ltd. (Galaxy); (86) Gausia Cold Stoiage P. Ltd (Gausia); (87) Gayathri Seafoods (Gayathri); (88) Geo Aquatic Products (P) Ltd. (Geo Aquatic); (89) Geo Seafoods; (90) G.K S Business Associates Pvt. Ltd. (G.K S); (91) Goan Bounty; (92) Gold Farm Foods (P) Ltd (Gold); (93) Golden Star Cold Stoiage (Golden); (94) Gopal Seafoods; (95) Grandtrust Overseas (P) Ltd. (Grandtrust); (96) Gtc Global Ltd (Gtc); (97) GVR Exports (GVR I); (98) GVR Exports Pvt. Ltd. (GVR II); (99) Hanjar Ice and Cold Storage (Hanjar); (100) Hanswati Exports P. Ltd (Hanswati); (101) HIC ABF Special Foods Pvt. Ltd. (HIC ABF); (102) Hiravata Ice & Cold Storage (Hiravata); (103) Hiravati Exports Pvt. Ltd. (Hiravati I); (104) Hiravati International P. Ltd (Hiravati II); (105) HMG Industries Ltd (HMG); (106) Honest Frozen Food Company (Honest); (107) I Ahamed & Company (I Ahamed); (108) India Seafoods (India); (109) Indian Aquatic Products (Indian I); (110) Indian Seafood Corporation (Indian II); (111) Indo Aquatics; (112) Interfish; (113) International Freezefish Exports (International Freezefish); (114) Interseas; (115) Jagadeesh Marine Exports (Jagadeesh); (116) Jaya Lakshmi Sea Foods Pvt. Ltd. (Jaya Lakshmi I); (117) Jaya Saya Marine Exports (Jaya Satya); (118) Jayalakshmi Seafoods (P) Ltd. (Jaya Lakshmi II); (119) Jinny Marine Traders (Jinny Marine); (120) J R K Seafoods Pvt. Ltd. (J R K); (121) Kaushalya Aqua Marine Product Exports Pvt. Ltd. (Kaushalya); (122) Kay Kay Exports (Kay Kay); (123) Keshodwala Foods (Keshodwala); (124) Key Foods (Key); (125) King Fish Industries (King Fish); (126) KNR Marine Exports (KNR); (127) Koluthara Exports Ltd. (Koluthara); (128) Konkan Fisheries Pvt. Ltd. (Konkan); (129) KR.M. Marine Exports (K.R.M.); (130) K. V Marine Exports (K. V Marine); (131) Lakshmi Marine Products (Lakshmi); (132) Lansea Foods Pvt. Ltd. (Lansea); (133) Laxmi Narayan Exports (Laxmi); (134) Lewis Natural Foods Ltd. (Lewis Natural); (135) Libran Cold Storages (P) Ltd (Libran); (136) L.G Seafoods; (137) Lourde Exports (Lourde); (138) Malabar Marine Exports (Malabar); (139) Malnad Exports Pvt. Ltd. (Malnad); (140) Mamta Cold Storage (Mamta); (141) Marina Marine Exports (Marina); (142) Marine Food Packers (Marine); (143) Markoorlose Sea Foods (Markoorlose); (144) Meenaxi Fisheries Pvt. Ltd. (Meenaxi); (145) Miki Exports International (Miki); (146) M K Exports (M K); (147) M.R.H. Trading Company (M.R.H.); (148) Msngr Aqua Intl (Msngr); (149) Mumbai Kamgar MGSM Ltd (Mumbai); (150) Naga Hanuman Fish Packers (Naga Hanuman); (151) Naik Ice & Cold Storage (Naik I); (152) Naik Seafoods Ltd (Naik II); (153) Nas Fisheries Pvt Ltd (Nas); (154) National Seafoods Company (National); (155) N.C Das & Company (N.C); (156) Nekkanti Sea Foods Limited (Nekkanti); (157) New Royal Frozen Foods (New Royal); (158) Noble Aqua Pvt. Ltd (Noble); (159) Noorani Exports Pvt. Ltd. (Noorani); (160) Omsons Marines Ltd. (Omsons); (161) Overseas Marine Export (Overseas); (162) Padmaja Exports (Padmaja); (163) Partytime Ice Pvt Ltd (Partytime); (164) Philips Foods India Pvt Ltd (Philips); (165) Pijikay International Exports P Ltd (Pijikay); (166) Pisces Seafood International (Pisces); (167) Premier Exports International (Premier I); (168) Premier Seafoods Exim (P) Ltd. (Premier II); (169) Pronto Foods Pvt. Ltd. (Pronto); (170) Rahul Foods (GOA) (Rahul I); (171) Rahul International (Rahul II); (172) Raj International (Raj); (173) Ramalmgeswara Proteins & Foods Ltd (Ramalmgeswara); (174) Rameshwar Cold Storage (Rameshwar); (175) Raunaq Ice & Cold Storage (Raunaq); (176) Ravi Frozen Foods Ltd (Ravi); (177) Raysons Aquatics Pvt. Ltd. (Raysons); (178) Razban Seafoods Ltd. (Razban); (179) RBT Exports (RBT); (180) Reddy & Reddy Importers & Exports (Reddy & Reddy); (181) Regent Marine Industries (Regent); (182) Relish Foods (Relish); (183) Riviera Exports Pvt. Ltd. (Riviera); (184) R K Ice & Cold Storage (R K); (185) Rohi Marine Private Ltd. (Rohi); (186) Royal Cold Storage India P Ltd. (Royal I); (187) Royal Link Exports (Royal II); (188) Rubian Exports (Rubian); (189) Ruby Marine Foods (Ruby); (190) Ruchi Worldwide (Ruchi); (191) RVR Marine Products (RVR); (192) S A Exports (S A); (193) S&S Seafoods (S&S); (194) Sabri Food Products (Sabri); (195) Safa Enterprises (Safa); (196) Sagar Foods; (197) Sagar Grandhi Exports Pvt. Ltd. (Sagar Grandhi); (198) Sagar Samrat Foods (Sagar Samrat); (199) Sagrvihar Fisheries Pvt. Ltd., 9 (Sagrvihar); (200) Sai Marine Exports Pvt. Ltd. (Sai); (201) Salet Seafoods Pvt Ltd (Salet); (202) Samrat Middle East Exports (P) Ltd (Samrat); (203) Sanchita Marine Products P Ltd. (Sanchita); (204) Sandhya Marines Limited (Sandhya); (205) Santhi Fisheries & Exports Ltd. (Santhi); (206) Sarveshwari Ice & Cold Storage P Ltd. (Sarveshwari); (207) Satya Seafoods Private Limited (Satya); (208) Satyam Marine Exports (Satyam); (209) Sawant Food Products (Sawant); (210) S B Agro (India) Ltd. (S B Agro); (211) S Chanchala Combines (S Chanchala); (212) Sea Rose Marines (P) Ltd (Sea Rose); (213) Sealand Fisheries Ltd (Sealand); (214) Seaperl Industries (Seaperl); (215) Selvam Exports Private Limited (Selvam); (216) Sheimar Seafoods Ltd (Sheimar); (217) Sharon Exports (Sharon); (218) Shimpo Exports (Shimpo); (219) Shipper Exporter National Steel; (220) Shivaganga Marine Products (Shivaganga); (221) Shroff Processed Food & Cold ZStorage P Ltd. (Shroff); (222) Siddiq Seafoods (Siddiq); (223) Silver Seafood (Silver); (224) Sita Marine Exports (Sita); (225) S K Exports (P) Ltd (S K); (226) Skyfish; (227) SLS Exports Pvt. Ltd. (SLS); (228) Sonia Fisheries (Sonia); (229) Sourab; (230) Sprint Exports (Sprint); (231) Sree Vaialakshrm Exports (Sree); (232) Sreevas Export Enterprises (Sreevas); (233) Sri Satya Marine Exports (Sri Satya); (234) Sri Sidhi Freezers & Exporters Pvt. Ltd (Sri Sidhi); (235) Sri Venkata Padmavathi Marine Foods Pvt. Ltd. (Sri Venkata); (236) SSFLtd; (237) S S International (S S); (238) Star Agro Marine Exports Private Limited (Star Agro); (239) Star Fish Exports (Star Fish); (240) Sterling Foods (Sterling); (241) Surya Marine Exports (Surya); (242) Supreme Exports (Supreme); (243) Swama Seafoods Ltd (Swama); (244) TBR Exports Pvt Ltd (TBR); (245) Teekay Maine P. Ltd. (Teekay); (246) The Canning Industries (Cochin) Ltd. (The Canning); (247) The Waterbase Ltd. (Waterbase I); (248) Theva & Company (Theva); (249) Tim Tim Far East Export Trading Co. (P) Ltd. (Tim Tim); (250) Tony Harris Seafoods Ltd (Tony); (251) Tri Marine Foods Pvt. Ltd (Tri Marine); (252) Trinity Exports; (253) Tri-Tee Seafood Company (Tri-Tee); (254) Ulka Seafoods (P) Ltd. (Ulka); (255) Upasana Exports (Upasana); (256) Usha Seafoods (Usha); (257) Varnta Cold Storage (Varnita); (258) Veraval Marines & Chemicals P Ltd (Veraval); (259) Vijayalaxmi Seafoods (Vijayalaxmi); (260) Vinner Marine (Vinner); (261) V Marine Exports (V Marine); (262) V.S Exim Pvt Ltd. (V.S); (263) Waterbase (Waterbase II); (264) Wellcome Fisheries Limited (Wellcome I); (265) Wellcome Fisheries (P) Ltd. (Wellcome II); (266) Winner Seafoods (Winner); (267) Wisdom Marine Exports (Wisdom); and (268) Z A. Food Products (Z A.). Section 351.213(d)(1) of the Department's regulations requires that the Secretary rescind an administrative review if a party requesting a review withdraws the request within 90 days of the date of publication of the notice of initiation. Therefore, because all requests for administrative reviews were timely withdrawn for the companies listed above, in accordance with 19 CFR 351.213(d)(1), we are rescinding this review with regard to these companies.

In addition, from April through June 2006, the Department received information that the Notice of Initiation contained duplicate company names for five entities. Specifically, we received requests for review of four of these companies from both the petitioner and the respondent with variations: (1) Devi Marine Food Exports Ltd. and Devi Marine Food Exports Private Limited; (2) Kader Exports and Kader Exports Private Limited; (3) Magnum Estate Private and Magnum Estate Private Limited; and (4) Manufacturer Falcon Marine Exports and Falcon Marine Exports Limited. For a fifth company, the petitioner requested a review of the company twice: Navyauga Exports and Navayuga Exports Ltd. We have received information on the record of this proceeding showing that: (1) These company-name variation pairs refer to the same companies; and (2) the correct legal names for these companies are Devi Marine Food Exports Private Limited; Kader Exports Private Limited; Magnum Estate Private Limited; Falcon Marine Exports Limited; and Navayuga Exports Ltd. We clarify that we will include these companies in our administrative review only once. Therefore, because the companies identified above will be included in this administrative review and because keeping the incorrect company names with the list of companies included in this administrative review creates administrative difficulties, we are rescinding the review of “Devi Marine Food Exports Ltd.”, “Kader Exports”, “Magnum Estate Private”, “Manufacturer Falcon Marine Exports”, and “Navyauga Exports”.

In June 2006, the Department also received information indicating that one of the companies named in the Notice of Initiation is now doing business under a different name. This company is Surya Marine Exports/Suryamitra Exim Pvt. Ltd. Therefore, in order to determine whether this company is subject to this proceeding, the Department must make a successor-in-interest finding with respect to it. We intend to make such a finding no later than the preliminary results in this case.

Partial Rescission of Review

As noted above, the petitioner and certain respondents withdrew their requests for an administrative review for the following companies within the time limits set forth in 19 CFR 351.213(d)(1): Abad; Accelerated I; Accelerated II; Adani; Aditya; Agri Marine; AL Mustafa; Alapatt; Alfuzz; Allana; AMI; All Seas; Alsa; Ameena; Ananda I; Ananda II; Andaman; Anjaneya; Anjani; Apex; Aqua; Arsha; A.S Marine; ASF; Ashwini; Asvini I; Asvini II; Asvini III; Asvrm; Aswin; Atta; Avanti; Baby Marine Sarass; Bell; Bengal; Bharat; Bhavani; Bhisti; Bijaya; Bilal; Bluefin; Bluepark; Blue Water; BMR; Brilliant; Britto; Capital; Capithan; Castlecrock; Central Calcutta; Cham I; Cham II; Cham III; Chand; Chemmeens; Choice I; Choice II; Corlim; C P Aquaculture; Danda; Dariapur; Deepmala; Devi I; Devi II; Devi III; Dhanamjaya; Diamond; Digha; Dorothy; Edhayam; El-Te; Esmorio; Excel; Exporter Coreline Exports; Fernando; Firoz; Five Star I; Five Star II; Forstar; Freeze; Frigerio; Frontline; G A; Gadre; Galaxy; Gausia; Gayathri; Geo Aquatic; Geo Seafoods; G.K S; Goan Bounty; Gold; Golden; Gopal Seafoods; Grandtrust; Gtc; GVR I; GVR II; Hanjar; Hanswati; HIC ABF; Hiravata; Hiravati I; Hiravati II; HMG; Honest; I Ahamed; India; Indian I; Indian II; Indo Aquatics; Interfish; International Freezefish; Interseas; Jagadeesh; Jaya Lakshmi I; Jaya Satya; Jaya Lakshmi II; Jinny Marine; J R K; Kaushalya; Kay Kay; Keshodwala; Key; King Fish; KNR; Koluthara; Konkan; K.R.M.; K.V Marine; Lakshmi; Lansea; Laxmi; Lewis Natural; L.G Seafoods; Libran; Lourde; Malabar; Malnad; Mamta; Marina; Marine; Markoorlose; Meenaxi; Miki; M K; M.R.H.; Msngr; Mumbai; Naga Hanuman; Naik I; Naik II; Nas; National; N.C; Nekkanti; New Royal; Noble; Noorani; Omsons; Overseas; Padmaja; Partytime; Philips; Pijikay; Pisces; Premier I; Premier II; Pronto; Rahul I; Rahul II; Raj; Ramalmgeswara; Rameshwar; Raunaq; Ravi; Raysons; Razban; RBT; Reddy & Reddy; Regent; Relish; Riviera; R K; Rohi; Royal I; Royal II; Rubian; Ruby; Ruchi; RVR; S A; S & S Sabri; Safa; Sagar Foods; Sagar Grandhi; Sagar Samrat; Sagrvihar; Sai; Salet; Samrat; Sanchita; Sandhya; Santhi; Sarveshwari; Satya; Satyam; Sawant; S B Agro; S Chanchala; Sea Rose; Sealand; Seaperl; Selvam; Sheimar; Sharon; Shimpo; Shipper Exporter National Steel; Shivaganga; Shroff; Siddiq; Silver; Sita; S K; Skyfish; SLS; Sonia; Sourab; Sprint; Sree; Sreevas; Sri Satya; Sri Sidhi; Sri Venkata; SSFLtd; S S; Star Agro; Star Fish; Sterling; Surya; Supreme; Swarna; TBR; Teekay; The Canning; Theva; Tim Tim; Tony; Tri Marine; Trinity Exports; Tri-Tee; Ulka; Upasana; Usha; Varnita; Veraval; Vijayalaxmi; Vinner; V Marine; V.S; Waterbase I; Waterbase II; Wellcome I; Wellcome II; Winner; Wisdom; and Z A. Therefore, because no other interested party requested a review for these companies, in accordance with 19 CFR 351.213(d)(1), we are rescinding this review with respect to these companies.

Additionally, as noted above, we are rescinding the review of “Devi Marine Food Exports Ltd.”, “Kader Exports”, “Magnum Estate Private”, “Manufacturer Falcon Marine Exports”, and “Navyauga Exports”.

This notice is published in accordance with section 751 of the Tariff Act of 1930, as amended, and 19 CFR 351.213(d)(4).

Dated: July 17, 2006.
Stephen J. Claeys,
Deputy Assistant Secretary for Import Administration.

[FR Doc. 06-6380 Filed 7-20-06; 8:45 am]

BILLING CODE 3510-DS-M